DEPARTMENT OF THE INTERIOR

Bureau of Land Management

[MT-912-0777-HN-003E]

Notice of Special Fire Restrictions-Closure Order in Carbon County and Bear Trap Wilderness Area; Montana

AGENCY: Bureau of Land Management, Interior.

ACTION: Notice.

SUMMARY: The Bureau of Land Management is including Carbon County and the closure of river use on the Madison River through the Bear Trap Wilderness Area in the special fire restriction-closure order dated August 21, 2000. This closure for Carbon County and the Bear Trap Wilderness Area will become effective at 12:01 a.m. Tuesday, August 29, 2000. In addition, include the following exemption to Order No. MT-00-06: Exemption: Oil and Gas lessees in the performance of activities directly related to their lease.

DATES: Restrictions go into effect at 12:01 am on Tuesday, August 29, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: August 28, 2000.
Mat Millenbach,
State Director.

[FR Doc. 00-22607 Filed 8-30-00; 12:37 pm]

BILLING CODE 4310-$$-P